DEPARTMENT OF COMMERCE

Foreign-Trade Zones Board

[S-99-2017]

Foreign-Trade Zone 283—West Tennessee Area Application for Subzone, MTD Consumer Group Inc., Martin, Tennessee

An application has been submitted to the Foreign-Trade Zones Board (the Board) by the Northwest Tennessee Regional Port Authority, grantee of FTZ 283, requesting subzone status for the facility of MTD Consumer Group Inc. (MTD), located in Martin, Tennessee. The application was submitted pursuant to the provisions of the Foreign-Trade Zones Act, as amended (19 U.S.C. 81a-81u), and the regulations of the Board (15 CFR part 400). It was formally docketed on June 29, 2017.

The proposed subzone (89 acres) is located at 116, 136 and 181 Industrial Park Drive, Martin, Tennessee. A notification of proposed production activity has been submitted and is being processed under 15 CFR 400.37 (Doc. B-41-2017). The proposed subzone would be subject to the existing activation limit of FTZ 283.

In accordance with the Board's regulations, Kathleen Boyce of the FTZ Staff is designated examiner to review the application and make recommendations to the Executive Secretary.

Public comment is invited from interested parties. Submissions shall be addressed to the Board's Executive Secretary at the address below. The closing period for their receipt is August 14, 2017. Rebuttal comments in response to material submitted during the foregoing period may be submitted during the subsequent 15-day period to August 29, 2017.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Kathleen Boyce at Kathleen.Boyce@trade.gov or (202) 482-1346.

Dated: June 29, 2017.
Elizabeth Whiteman,
Acting Executive Secretary.

[FR Doc. 2017-14053 Filed 7-3-17; 8:45 am]

BILLING CODE 3510-DS-P